DEPARTMENT OF COMMERCE

International Trade Administration

A-201-805

Certain Circular Welded Non-Alloy Steel Pipe from Mexico: Notice of Partial Rescission of Antidumping Duty Administrative Review

AGENCY: Import Administration, International Trade Administration, Department of Commerce.

SUMMARY: The Department of Commerce (the Department) is partially rescinding its administrative review of the antidumping duty order on certain circular welded non-alloy steel pipe from Mexico for the period November 1, 2007, to October 31, 2008 with respect to four of the eight companies for which the review was initiated. This rescission is based on the timely withdrawal of the request for review by the interested party that requested the review. A complete list of the companies for which the administrative review is being rescinded is provided in the Background section below.

EFFECTIVE DATE: May 6, 2009.

FOR FURTHER INFORMATION CONTACT: Maryanne Burke or Robert James, AD/CVD Operations, Office 7, Import Administration, International Trade Administration, U.S. Department of Commerce, 14th Street and Constitution Avenue, NW, Room 7866, Washington, DC 20230; telephone: (202) 482-5604 or (202) 482-0649, respectively.

Background:

On November 3, 2008, the Department published in the Federal Register its notice of opportunity to request an administrative review of the antidumping duty order on certain circular welded non-alloy steel pipe from Mexico. See Antidumping or Countervailing Duty Order, Finding, or Suspended Investigation; Opportunity to Request Administrative Review, 73 FR 65288 (November 3, 2008). On December 1, 2008, the United States Steel Corporation (U.S. Steel) requested an administrative review of the antidumping duty order on certain circular welded non-alloy steel pipe from Mexico for the period November 1, 2007, through October 31, 2008.

On December 24, 2008, the Department initiated a review of the eight companies for which an administrative review was requested.¹ See Initiation of Antidumping and Countervailing Duty Administrative Reviews and Request for Revocation in Part, 74 FR 79055 (December 24, 2008).

¹ U.S. Steel requested review of, inter alia, Hylsa, S.A. de C.V. (Hylsa) and Ternium Mexico, S.A. de C.V. (Ternium Mexico). However, in an ongoing changed circumstances review of this order, Ternium Mexico claims it is the successor-in-interest to Hylsa, the respondent in the original investigation. See Initiation of Antidumping Duty Changed Circumstances Review: Circular Welded Non-Alloy Steel Pipe from Mexico, 73 FR 63682 (October 27, 2008). The Department has not yet determined whether Ternium Mexico is, in fact, the successor-in-interest to Hylsa; therefore, at this time we are treating both producers in this segment of the proceeding as separate entities.

On March 24, 2009, U.S. Steel timely withdrew its requests for review of the following companies: Niples del Norte, S.A. de C.V., Productos Laminados de Aceros, S.A. de C.V., Tuberias Procasa S.A. de C.V./Tuberias Procarsa S.A. de C.V., and PYTCO S.A de C.V.²

² On January, 16, 2009, U.S. Steel submitted clarification of its request, indicating Tuberias Procasa S.A. de C.V. and Tuberias Procarsa S.A. de C.V. are the same company.

Scope of the Order

The merchandise covered by this order is circular welded non-alloy steel pipes and tubes, of circular cross-section, not more than 406.4 millimeters (16 inches) in outside diameter, regardless of wall thickness, surface finish (black, galvanized, or painted), or end finish (plain end, beveled end, threaded, or threaded and coupled). These pipes and tubes are generally known as standard pipes and tubes and are intended for the low-pressure conveyance of water, steam, natural gas, and other liquids and gases in plumbing and heating systems, air conditioning units, automatic sprinklers, and other related uses, and generally meet ASTM-53 specifications. Standard pipe may also be used for light load-bearing applications, such as for fence tubing, and as structural pipe tubing used for framing and support members for reconstruction or loading-bearing purposes in construction, shipbuilding, trucking, farm equipment, and related industries. Unfinished conduit pipe is also included in this order. All carbon steel pipes and tubes within the physical description outlined above are included with the scope of this order, except line pipe, oil country tubular goods, boiler tubing, mechanical tubing, pipe and tube hollows for redraws, finished scaffolding, and finished conduit. Standard pipe that is dual or triple certified/stenciled that enters the United States as line pipe of a kind used for oil or gas pipelines is also not included in this order.

The merchandise under the scope of the order is currently classifiable under subheadings 7306.30.10.00, 7306.30.50.25, 7306.30.50.32, 7306.30.50.40, 7306.30.50.55, 7306.30.50.85, and 7306.30.50.90 of the Harmonized Tariff Schedule of the United States (HTSUS). Although the HTSUS subheadings are provided for convenience and U.S. Customs and Border Protection (CBP) purposes, the Department's written description of the merchandise under this order is dispositive.

Rescission, in Part, of Administrative Review

Section 351.213(d)(1) of the Department's regulations provides that the Department will rescind an administrative review, in whole or in part, if the party that requested the review withdraws its request for review within 90 days of the date of publication of the notice of initiation of the requested review. Within 90 days of the date of publication of the notice or initiation, U.S. Steel withdrew its request for an administrative review for the following companies: Niples del Norte, S.A. de C.V., Productos Laminados de Aceros, S.A. de C.V., Tuberias Procasa S.A. de C.V./Tuberias Procarsa S.A. de C.V., and PYTCO S.A de C.V. Because U.S. Steel was the only party to request administrative reviews of these companies, we are rescinding the review with regards to Niples del Norte, S.A. de C.V., Productos Laminados de Aceros, S.A. de C.V., Tuberias Procasa S.A. de C.V./Tuberias Procarsa S.A. de C.V., and PYTCO S.A de C.V.

The Department will issue appropriate assessment instructions directly to U.S. Customs and Border Protection (CBP) 41 days after the publication of this notice. The Department will direct CBP to assess antidumping duties for these companies at the cash deposit rate in effect on the date of entry for entries during the period November 1, 2007, to October 31, 2008.

Notification to Parties

This notice serves as a reminder to importers of their responsibility under section 351.402(f) of the Department's regulations to file a certificate regarding the reimbursement of antidumping duties prior to liquidation of the relevant entries during this period of time. Failure to comply with this requirement could result in the Secretary's presumption that reimbursement of antidumping duties occurred and subsequent assessment of double antidumping duties.

This notice also serves as a reminder to parties subject to administrative protective order (APO) of their responsibility concerning the disposition of proprietary information disclosed under APO in accordance with section 351.305(a)(3) of the Department's regulations. Timely written notification of the return or destruction of APO materials or conversion to judicial protective order is hereby requested. Failure to comply with the regulations and terms of an APO is a sanctionable violation.

This notice is issued and published in accordance with section 351.213(d)(4) of the Department's regulations and sections 751(a)(1) and 777(i)(1) of the Tariff Act of 1930, as amended.

Dated: April 28, 2009.
John M. Andersen,
Acting Deputy Assistant Secretary for Antidumping and Countervailing Duty Operations.

[FR Doc. E9-10493 Filed 5-5-09; 8:45 am]

BILLING CODE 3510-DS-S